ARCHITECTURAL AND TRANSPORTATION BARRIERS COMPLIANCE BOARD

36 CFR Part 1192

[Docket No. 2007-1]

RIN 3014-AA38

Americans With Disabilities Act (ADA) Accessibility Guidelines for Transportation Vehicles

AGENCY: Architectural and Transportation Barriers Compliance Board.

ACTION: Availability of draft revisions to guidelines.

SUMMARY: The Architectural and Transportation Barriers Compliance Board (Access Board) has placed in the docket and on its web site for public review and comment draft revisions to the Americans with Disabilities Act (ADA) Accessibility Guidelines for Transportation Vehicles. The draft revisions to the guidelines cover only buses, vans and similar vehicles. Draft revisions to the guidelines for other modes will be issued later. Comments will be accepted on the draft revisions to the guidelines, and the Access Board will consider those comments prior to issuing a notice of proposed rulemaking to update the guidelines.

DATES: Comments on the draft revisions to the guidelines must be received by June 11, 2007.

ADDRESSES: Comments should be sent to Docket 2007-1, Office of Technical and Informational Services, Architectural and Transportation Barriers Compliance Board, 1331 F Street, NW., suite 1000, Washington, DC 20004-1111. E-mail comments should be sent to cannon@access-board.gov. Comments sent by e-mail will be considered only if they contain the full name and address of the sender in the text. Comments will be available for inspection at the above address from 9 a.m. to 5 p.m. on regular business days.

FOR FURTHER INFORMATION CONTACT: Dennis Cannon, Office of Technical and Information Services, Architectural and Transportation Barriers Compliance Board, 1331 F Street, NW., suite 1000, Washington DC 20004-1111. Telephone number: (202) 272-0015 (voice); (202) 272-0082 (TTY). Electronic mail address: cannon@access-board.gov.

SUPPLEMENTARY INFORMATION: In 1991, the Architectural and Transportation Barriers Compliance Board (Access Board) issued the Americans with Disabilities Act (ADA) Accessibility Guidelines for Transportation Vehicles, which is codified at 36 CFR part 1192. The guidelines have not been updated since they were issued, except for modifications for over-the-road buses in 1994. The Access Board is beginning the process of updating the guidelines by publishing draft revisions to subparts A and B of 36 CFR part 1192, which contain general provisions and cover buses, vans and similar vehicles. Draft revisions to other subparts, which cover other modes, will be available later. Changes are proposed to accommodate new technology and vehicles, and new system designs, particularly Bus Rapid Transit.

Subsequent to issuance of the guidelines in 1991, the National Highway Traffic Safety Administration (NHTSA) issued regulations for vehicle lifts. The Access Board will coordinate its rulemaking with NHTSA to ensure consistency.

The Access Board is making the draft revisions to the guidelines and supplemental information available for public review and comment prior to issuing a notice of proposed rulemaking to update the guidelines. Comments on the draft revisions to the guidelines will be considered by the Access Board in developing the notice of proposed rulemaking to update the guidelines, which will also be open for public comment. The draft revisions to the guidelines and supplementary information are available on the Access Board's Internet site (http://www.access-board.gov/vguidedraft.htm). You may also obtain a copy of the draft guidelines and supplementary information by contacting the Access Board at (202) 272-0080. Persons using a TTY should call (202) 272-0082. The documents are available in alternate formats upon request. Persons who want a copy in an alternate format should specify the type of format (cassette tape, Braille, large print, or ASCII disk.)

James J. Raggio,
General Counsel.

[FR Doc. E7-6722 Filed 4-10-07; 8:45 am]

BILLING CODE 8150-01-P